DEPARTMENT OF COMMERCE

National Oceanic and Atmospheric Administration

Notice of Intent To Conduct Restoration Planning for Discharge of Oil From the Amplify Energy Corp Pipeline P00547 Into the Pacific Ocean Near Huntington Beach, Orange County, California

AGENCY: Office of Response and Restoration (ORR), National Ocean Service, National Oceanic and Atmospheric Administration (NOAA), Department of Commerce.

ACTION: Notice of intent to conduct restoration planning activities.

SUMMARY: Notice is hereby given of intent to proceed with restoration planning actions to address injuries to natural resources resulting from the discharge of oil from the Amplify Energy Corp Pipeline P00547 into the Pacific Ocean near Huntington Beach, Orange County, California (Incident). The purpose of this restoration planning effort is to further evaluate injuries to natural resources and services and to use that information to determine the need for, type of, and scale of restoration actions.

FOR FURTHER INFORMATION CONTACT: For further information contact one or more of the following Trustee representatives: Troy Baker (NOAA) at troy.baker@noaa.gov; Mike Anderson (California Department of Fish and Wildlife) at michael.anderson@wildlife.ca.gov; Damian Higgins (U.S. Fish and Wildlife Service) at damian_higgins@fws.gov.

SUPPLEMENTARY INFORMATION:

Background

On October 1, 2021, Pipeline P00547, an oil pipeline owned and operated by Amplify Energy Corp., Beta Operating Company, LLC, dba, “Beta Offshore”; and San Pedro Bay Pipeline Company (collectively, Amplify) ruptured. The underwater pipeline running from Platform Elly to Long Beach spilled a minimum of approximately 24,696 gallons of crude oil into San Pedro Bay. Product initially floated to the surface forming surface slicks and strands that extended from the source mainly south and southeast along prevailing ocean currents. Southern California beaches from at least Surfside Beach to potentially past the U.S./Mexico Border, including coastal marshes and lagoons, were either freshly oiled or received varying levels of tarballs in the weeks following the spill. This discharge affected natural resources in the area.

Pursuant to section 1006 of the Oil Pollution Act (OPA), 33 U.S.C. 2701 et seq., Federal and State Trustees for natural resources are authorized to (1) assess natural resource injuries resulting from a discharge of oil or the substantial threat of a discharge and response activities, and (2) develop and implement a plan for restoration of such injured resources. The Federal Trustees are designated pursuant to the National Contingency Plan, 40 CFR 300.600 and Executive Order 12777. State trustees for California are designated pursuant to the National Contingency Plan, 40 CFR 300.605, and the Governor's Designation of State Natural Resource Trustees under the Comprehensive Environmental Response, Compensation and Liability Act of 1980, the Oil Pollution Act of 1990, and California Health and Safety Code section 25352(c), dated October 5, 2007, and the Delegation of Authority of Natural Resource Trustee, dated November 15, 2007. The natural resources trustees (Trustees) under OPA for this Incident are NOAA; the United States Department of the Interior, acting through the U.S. Fish and Wildlife Service, the National Park Service, and the Bureau of Land Management; the California Department of Fish and Wildlife; the California State Lands Commission; and the California Department of Parks and Recreation.

Amplify is the Responsible Party (RP) for this Incident. The Trustees have coordinated with representatives of the RP on Natural Resource Damage Assessment (NRDA) activities.

The Trustees began the Preassessment Phase of the NRDA in accordance with 15 CFR 990.40, to determine if they had jurisdiction to pursue restoration under OPA, and, if so, whether it was appropriate to do so. During the Preassessment Phase, the Trustees collected and analyzed the following: (1) data reasonably expected to be necessary to make a determination of jurisdiction or a determination to conduct restoration planning, (2) ephemeral data, and/or (3) information needed to design or implement anticipated emergency restoration and/or assessment activities as part of the Restoration Planning Phase.

The NRDA regulations under OPA, 15 CFR 990 (NRDA regulations), provide that the Trustees are to prepare a Notice of Intent to Conduct Restoration Planning (Notice) if they determine certain conditions have been met, and if they decide to quantify the injuries to natural resources and to develop a restoration plan.

This Notice is to announce, pursuant to 15 CFR 990.44, that the Trustees, having collected and analyzed data, intend to proceed with restoration planning actions to address injuries to natural resources resulting from the Incident. The purpose of this restoration planning effort is to further evaluate injuries to natural resources and services and to use that information to determine the need for, type of, and scale of restoration actions.

Determination of Jurisdiction

The Trustees have made the following findings pursuant to 15 CFR 990.41:

1. The rupture of Pipeline P00547 on October 1, 2021, resulted in a discharge of oil into and upon navigable waters of the United States, including the Pacific Ocean, as well as adjoining shorelines. Such occurrence constitutes an “Incident” within the meaning of 15 CFR 930.30.

2. The Incident was not permitted pursuant to Federal, State, or local law; was not from a public vessel; and was not from an onshore facility subject to the Trans-Alaska Pipeline Authority Act, 43 U.S.C. 1651 et seq.

3. Natural resources under the trusteeship of the Trustees have been injured as a result of the Incident. The crude oil discharged from Pipeline P00547 is harmful to certain aquatic organisms, birds, wildlife, and vegetation that were exposed to the oil. Accordingly, the discharged oil and the response activities to address the discharge have had an adverse effect on the natural resources of the Pacific Ocean and its adjoining shorelines and impaired the services which those resources provide. Documents in the Administrative Record contain more information regarding the basis upon which the Trustees reached this determination.

As a result of the foregoing determinations, the Trustees have jurisdiction to pursue restoration under OPA.

Determination To Conduct Restoration Planning

The Trustees have determined, pursuant to 15 CFR 990.42(a), that:

1. Observations and data collected in accordance with 15 CFR 990.43 (including but not limited to dead and live oiled birds; oiling at beaches, rocky intertidal habitats, subtidal habitats, and other habitats; beach and fishery closures; and impacts from response activities) demonstrate that injuries to natural resources have resulted from the Incident. Immediately following the Incident, the Trustees, in cooperation with the RPs, identified several categories of impacted and potentially impacted natural resources, including birds, marine mammals, fish, and shoreline and subtidal habitats, as well as effects to human use resulting from impacts on these natural resources. The Trustees then began conducting activities, in cooperation with the RPs, to evaluate injuries and potential injuries within these categories. More information on these resource categories is available in the Administrative Record, including information gathered during the Preassessment.

2. Spill response actions did not address all injuries resulting from the Incident to the extent that restoration would not be necessary. Although response actions were initiated soon after the spill, the nature and location of the discharge prevented recovery of all of the oil and precluded prevention of injuries to some natural resources. In addition, certain response efforts, such as the removal of wrack from beaches and excavation of submerged oil, caused additional injuries to natural resources. It is anticipated that injured natural resources will eventually return to baseline levels (the condition they would have been in had it not been for the Incident), but interim losses have occurred or have likely occurred and will continue until a return to baseline is achieved. In addition, there were lost and diminished human uses of the resources resulting from the impacts to the natural resources and from spill response actions.

3. Feasible primary and compensatory restoration actions exist to address injuries to natural resources and lost human uses resulting from the Incident. The Trustees have compiled a list of restoration projects that could potentially be implemented to compensate for interim losses resulting from the Incident. The Trustees have also sought suggestions from the public on potential restoration projects to compensate for the services and functions provided by natural resources. In addition, assessment procedures such as Habitat Equivalency Analysis and Resource Equivalency Analysis are available to scale the appropriate amount of compensatory restoration required to offset ecological service losses resulting from this Incident. To quantify lost human uses resulting from the Incident, the Trustees, in cooperation with the RP, have collected and compiled data regarding visitor use of impacted sites and associated activities. To value those lost uses, the Trustees are investigating use of a Travel Cost Model and Benefits Transfer Method. To compensate for the lost and diminished human uses arising from the Incident, the Trustees intend to solicit project ideas from local, regional, State, and Federal managers of parks and other recreational areas, as well as from the general public. The final selection of projects will be informed by project costs, the value of lost use, distribution and character of impacts, and other criteria consistent with state and federal laws and practice.

During restoration planning, the Trustees evaluate potential restoration projects, determine the scale of restoration actions needed to make the environment and the public whole, and release a draft Damage Assessment and Restoration Plan for public review and comment.

Based upon the foregoing determinations and information in the Administrative Record, the Trustees intend to proceed with restoration planning for this Incident.

Administrative Record

The Trustees have opened an Administrative Record (Record) in accordance with 15 CFR 990.45. The Record will include documents considered by the Trustees during the preassessment, assessment, and restoration planning phases of the NRDA performed in connection with the Incident. The Record will be augmented with additional information over the course of the NRDA process.

The Administrative Record may be viewed at the following website: https://www.diver.orr.noaa.gov/web/guest/diver-admin-record/14901.

Opportunity To Comment

Pursuant to 15 CFR 990.14(d), the Trustees seek public involvement in restoration planning for this Incident through public review of, and comment on, documents contained in the Record. The Trustees also intend to seek public comment on a draft Damage Assessment and Restoration Plan when it becomes available.

Scott Lundgren,
Director, Office of Response and Restoration, National Ocean Service, National Oceanic and Atmospheric Administration.

[FR Doc. 2023-12787 Filed 6-15-23; 8:45 am]

BILLING CODE 3510-JE-P